DEPARTMENT OF COMMERCE

International Trade Administration

[A-583-008]

Certain Circular Welded Carbon Steel Pipes and Tubes From Taiwan: Preliminary Results of Administrative Review of the Antidumping Duty Order; 2018-2019

AGENCY: Enforcement and Compliance, International Trade Administration, Department of Commerce.

SUMMARY: The Department of Commerce (Commerce) preliminarily determines that sales of certain circular welded carbon steel pipe and tubes (steel pipes and tubes) from Taiwan were made at less than normal value during the period of review (POR) May 1, 2018 through April 30, 2019. We invite all interested parties to comment on these preliminary results.

DATES: Applicable July 24, 2020.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On May 1, 2019, Commerce published in the Federal Register a notice of opportunity to request an administrative review of the antidumping duty (AD) order on steel pipes and tubes from Taiwan.¹ Pursuant to requests from interested parties, Commerce initiated an administrative review of the AD order with respect to 27 companies, in accordance with section 751(a) of Tariff Act of 1930, as amended (the Act).² On August 1, 2019, Commerce selected one producer/exporter of subject merchandise, Shin Yang Steel Co., Ltd (Shin Yang), as the sole mandatory respondent for this review.³

¹ See Antidumping or Countervailing Duty Order, Finding, or Suspended Investigation; Opportunity to Request Administrative Review, 84 FR 18479 (May 1, 2019).

² See Initiation of Antidumping and Countervailing Duty Administrative Reviews, 84 FR 33739 (July 15, 2019).

³ See Memorandum, “Administrative Review of the Antidumping Duty Order of Circular Welded Carbon Steel Pipes and Tubes from Taiwan: Respondent Selection,” dated August 1, 2019.

Subsequent to the initiation of the administrative review, several interested parties timely withdrew their request for review of all companies except Shin Yang, and on November 22, 2019, Commerce published a partial rescission of this administrative review with respect to those companies.⁴ For details regarding the events that occurred subsequent to the initiation of the review, see the Preliminary Decision Memorandum.⁵

⁴ See Certain Circular Welded Carbon Steel Pipes and Tubes from Taiwan: Partial Rescission of Antidumping Duty and Administrative Review; 2018—2019, 84 FR 64463 (November 22, 2019).

⁵ See Memorandum, “Decision Memorandum for the Preliminary Results of the Administrative Review of the Antidumping Duty Order on Certain Circular Welded Carbon Steel Pipes and Tubes from Taiwan; 2018-2019,” dated concurrently with, and hereby adopted by, this notice (Preliminary Decision Memorandum).

Pursuant to section 751(a)(3)(A) of the Act, Commerce determined that it was not practicable to complete the preliminary results of this review within the 245 days and extended the preliminary results by 119 days, until May 29, 2020.⁶ On April 24, 2020, Commerce tolled all deadlines in administrative reviews by 50 days pursuant to section 751(a)(1) of the Act, thereby extending the deadline for these results until July 20, 2020.⁷

⁶ See Memorandum, “Certain Circular Welded Carbon Steel Pipes and Tubes from Taiwan: Extension of Deadline for Preliminary Results of Antidumping Duty Administrative Review,” dated January 27, 2020.

⁷ See Memorandum, “Tolling of Deadlines for Antidumping and Countervailing Duty Administrative Reviews in Response to Operational Adjustments Due to COVID-19,” dated April 24, 2020.

Scope of the Order

The products covered by this order are certain circular welded carbon steel pipes and tubes. The products are currently classifiable under the Harmonized Tariff Schedule of the United States (HTSUS) subheadings: 7306.30.5025, 7306.30.5032, 7306.30.5040, and 7306.30.5055. Although the HTSUS subheadings are provided for convenience and customs purposes, the written product description of the scope of the order is dispositive. For a full description of the scope, see the Preliminary Decision Memorandum.

Methodology

Commerce is conducting this review in accordance with section 751 of the Act. Export price is calculated in accordance with section 772 of the Act. Normal value is calculated in accordance with section 773 of the Act. For a full description of the methodology underlying these preliminary results, see the Preliminary Decision Memorandum. A list of topics discussed in the Preliminary Decision Memorandum is attached as an appendix to this notice. The Preliminary Decision Memorandum is a public document and is made available to the public on file electronically via Enforcement and Compliance's Antidumping and Countervailing Duty Centralized Electronic Service System (ACCESS). ACCESS is available to registered users at https://access.trade.gov, and to all parties in the Central Records Unit, room B8024 of the main Commerce building. In addition, a complete version of the Preliminary Decision Memorandum can be accessed directly at http://enforcement.trade.gov/frn/. The signed and electronic versions of the Preliminary Decision Memorandum are identical in content.

Preliminary Results of this Review

We preliminarily determine that the following weighted-average dumping margin exists for the period of May 1, 2018 through April 30, 2019:

Exporter/producer | Weighted-average dumping margin (percent)
Shin Yang Steel Co., Ltd | 1.71

Assessment Rates

Upon completion of the final results, Commerce shall determine, and U.S. Customs and Border Protection (CBP) shall assess, antidumping duties on all appropriate entries. If Shin Yang's weighted-average dumping margin is not zero or de minimis (i.e., less than 0.5 percent) in the final results of this review, we will calculate importer-specific ad valorem antidumping duty assessment rates based on the ratio of the total amount of dumping calculated for the importer's examined sales to the total entered value of those same sales in accordance with 19 CFR 351.212(b)(1). We will instruct CBP to assess antidumping duties on all appropriate entries covered by this review when the importer-specific assessment rate calculated in the final results of this review is not zero or de minimis. If Shin Yang's weighted-average dumping margin is zero or de minimis, we will instruct CBP to liquidate the appropriate entries without regard to antidumping duties. The final results of this review shall be the basis for the assessment of antidumping duties on entries of merchandise covered by this review and for future deposits of estimated duties, where applicable.⁸

⁸ See section 751(a)(2)(C) of the Act.

In accordance with Commerce's “automatic assessment” practice, for entries of subject merchandise during the POR produced by Shin Yang for which it did not know that the merchandise was destined for the United States, we will instruct CBP to liquidate those entries at the all-others rate if there is no rate for the intermediate company(ies) involved in the transaction.⁹

⁹ For a full description of this practice, see Antidumping and Countervailing Duty Proceedings: Assessment of Antidumping Duties, 68 FR 23954 (May 6, 2003).

We intend to issue instructions to CBP 15 days after the publication date of the final results of this review.

Cash Deposit Requirements

The following cash deposit requirements will be effective for all shipments of the subject merchandise entered, or withdrawn from warehouse, for consumption on or after the publication date of the final results of this administrative review, as provided by section 751(a)(2)(C) of the Act: (1) The cash deposit rate for Shin Yang will be equal to the weighted-average dumping margin established in the final results of this administrative review, (except if the ad valorem rate is de minimis, then the cash deposit rate will be zero); (2) for merchandise exported by producers or exporters not covered in this review but covered in a prior segment of the proceeding, the cash deposit rate will continue to be the company-specific rate published for the most recently-completed segment of this proceeding in which the company was reviewed; (3) if the exporter is not a firm covered in this review, a prior review, or the original investigation, but the producer is, the cash deposit rate will be the rate established for the most recently-completed segment of this proceeding for the producer of subject merchandise; and (4) the cash deposit rate for all other producers or exporters will continue to be 9.70 percent, the all-others rate established in the investigation.¹⁰ These cash deposit requirements, when imposed, shall remain in effect until further notice.

¹⁰ See Certain Circular Welded Carbon Steel Pipes and Tubes from Taiwan: Antidumping Duty Order, 49 FR 19369 (May 7, 1984) (Order).

Disclosure and Public Comment

Commerce intends to disclose the calculations performed to parties within five days after public announcement of the preliminary results in accordance with 19 CFR 351.224(b). Pursuant to 19 CFR 351.309(c), interested parties are invited to comment on the preliminary results and may submit case briefs and/or written comments no later than 30 days after the date of publication of this notice. Rebuttal briefs, limited to issues raised in case briefs, may be submitted no later than seven days after the deadline date for filing case briefs.¹¹ Pursuant to 19 CFR 351.309(c)(2) and (d)(2), parties who submit case briefs or rebuttal briefs in this review are encouraged to submit with each argument: (1) A statement of the issue; (2) a brief summary of the argument; and (3) a table of authorities. Case and rebuttal briefs should be filed using ACCESS ¹² and must be served on interested parties.¹³ Executive summaries should be limited to five pages total, including footnotes. Note that Commerce has temporarily modified certain requirements for serving documents containing business proprietary information, until further notice.¹⁴

¹¹ See 19 CFR 351.309(c)(1)(ii) and 351.309(d)(1).

¹² See generally 19 CFR 351.303.

¹³ See 19 CFR 351.303(f).

¹⁴ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by Commerce's electronic records system, ACCESS, by 5:00 p.m. Eastern Time within 30 days after the date of publication of this notice. Requests should contain: (1) The party's name, address, and telephone number; (2) the number of participants; and (3) a list of issues to be discussed. If a request for a hearing is made, Commerce intends to hold the hearing at a date and time to be determined. Issues raised in the hearing will be limited to those raised in the respective case and rebuttal briefs.

Final Results of Review

Unless otherwise extended, Commerce intends to issue the final results of this administrative review, including the results of its analysis of the issues raised in any written briefs, not later than 120 days after the date of publication of this notice, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

The preliminary results of this administrative review are issued and published in accordance with sections 751(a)(1) and 777(i)(1) of the Act, and 19 CFR 351.213(h)(1) and 351.221(b)(4).

Dated: July 20, 2020.
Jeffrey I. Kessler,
Assistant Secretary for Enforcement and Compliance.

Appendix

List of Topics Discussed in the Preliminary Decision Memorandum

I. Summary

II. Background

III. Scope of the Order

IV. Discussion of the Methodology

V. Currency Conversion

VI. Recommendation

[FR Doc. 2020-16094 Filed 7-23-20; 8:45 am]

BILLING CODE 3510-DS-P